AGENCY FOR INTERNATIONAL DEVELOPMENT

Bureau for Democracy, Conflict and Humanitarian Assistance; Office of Food for Peace; Announcement of Food for Peace Public Law 480 Title II Program Policies and Proposal Guidelines (FY07)

Pursuant to the Agricultural Trade Development and Assistance Act of 1954 (Pub. L. 480, as amended), notice is hereby given that the final Food for Peace Public Law 480 Title II Program Policies and Proposal Guidelines (FY 07) are available to interested parties for general viewing.

Individuals who wish to access the current guidelines should visit the Food for Peace Web site at http://www.usaid.gov/our_work/humanitarian_assistance/ffp/, or contact the Office of Food for Peace, U.S. Agency for International Development, RRB 7.06-102, 1300 Pennsylvania Avenue, NW., Washington, DC 20523-7600.

Lisa Witte,
Acting Chief, Policy and Technical Division, Office of Food for Peace, Bureau for Democracy, Conflict and Humanitarian Assistance.

[FR Doc. E6-7148 Filed 5-9-06; 8:45 am]

BILLING CODE 6116-01-P